DEPARTMENT OF ENERGY

Federal Energy Regulatory Commission

[Project No. 2336-101]

Georgia Power Company; Notice of Waiver Period for Water Quality Certification Application

On July 18, 2022, Georgia Power Company submitted to the Federal Energy Regulatory Commission (Commission) a copy of its application for a Clean Water Act section 401(a)(1) water quality certification filed with Georgia Department of Natural Resources, Environmental Protection Division (Georgia EPD), in conjunction with the above captioned project. Pursuant to 40 CFR 121.6 and section [4.34(b)(5), 5.23(b), 153.4, or 157.22] of the Commission's regulations,¹ we hereby notify the Georgia EPD of the following:

¹ 18 CFR [4.34(b)(5)/5.23(b)/153.4/157.22].

Date of Receipt of the Certification Request: June 24, 2022.

Reasonable Period of Time to Act on the Certification Request: June 24, 2023.

If Georgia EPD fails or refuses to act on the water quality certification request on or before the above date, then the agency certifying authority is deemed waived pursuant to section 401(a)(1) of the Clean Water Act, 33 U.S.C. 1341(a)(1).

Dated: July 19, 2022.
Debbie-Anne A. Reese,
Deputy Secretary.

[FR Doc. 2022-15843 Filed 7-22-22; 8:45 am]

BILLING CODE 6717-01-P